ENVIRONMENTAL PROTECTION AGENCY

[FRL-9769-3]

Proposed Consent Decree, Clean Air Act Citizen Suit

AGENCY: Environmental Protection Agency (EPA).

ACTION: Notice of proposed consent decree; extension of public comment period.

SUMMARY: On December 7, 2012, in accordance with section 113(g) of the Clean Air Act, as amended (“CAA” or the “Act”), the EPA published a notice in the Federal Register of a proposed consent decree to address a lawsuit filed by Sierra Club in the United States District Court for the District of Columbia: Sierra Club v. Jackson, No. 1:08-cv-00424 RWR (D. DC). Sierra Club filed a complaint alleging that the EPA failed to meet its obligations under section 112(e)(1)(E) of the CAA to promulgate emission standards for hazardous air pollutant emissions from brick and structural clay products manufacturing facilities and clay ceramics manufacturing facilities located at major sources by November 15, 2000. The proposed consent decree establishes deadlines for the EPA's proposed and final actions for meeting these obligations. This notice extends the comment period on the proposed consent decree until January 14, 2013.

DATES: Written comments on the proposed consent decree must be received by January 14, 2013.

ADDRESSES: Submit your comments, identified by Docket ID number EPA-HQ-OGC-2012-0905, online at www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Scott Jordan, Air and Radiation Law Office (2344A), Office of General Counsel, U.S. Environmental Protection Agency, 1200 Pennsylvania Ave. NW., Washington, DC 20460; telephone: (202) 564-7508; fax number (202) 564-5603; email address: jordan.scott@epa.gov.

SUPPLEMENTARY INFORMATION:

Additional Information About the Proposed Consent Decree

The proposed consent decree would resolve a lawsuit filed by Sierra Club seeking to compel EPA to promulgate emission standards for hazardous air pollutant emissions from brick and structural clay products manufacturing facilities and clay ceramics manufacturing facilities located at major sources under section 112(e)(1)(E) of the CAA. Under the proposed consent decree, EPA shall no later than August 30, 2013, sign a notice of proposed rulemaking to set national emission standards for hazardous air pollutants (“NESHAP”) pursuant to section 112(d) of the CAA, 42 U.S.C. 7412(d), for brick and structural clay products manufacturing facilities and clay ceramics manufacturing facilities located at major sources. In addition, under the proposed consent decree, EPA shall no later than July 31, 2014, sign a notice of final rulemaking to set NESHAP for the source categories covered by the proposed rule.

The proposed consent decree further requires that, within 10 business days of signing a proposed or final rule, EPA shall deliver a notice of such action to the Office of the Federal Register for publication and that once EPA fulfills its obligations under the decree it may move to have the decree terminated.

On December 7, 2012, the EPA published a notice of the above-described proposed consent decree and invited written comments on the proposed decree from persons who were not named as parties or intervenors to the litigation in question. 77 FR 73029. This notice extends the public comment period on the proposed consent decree until January 14, 2013.

Please see the notice published at 77 FR 73029 (Dec. 7, 2012) for information on how to obtain a copy of the proposed consent decree and how, and to whom, to submit comments concerning the proposed decree.

Dated: January 1, 2013.
Lorie J. Schmidt,
Associate General Counsel.

[FR Doc. 2013-00360 Filed 1-9-13; 8:45 am]

BILLING CODE 6560-50-P